SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before July 28, 2008.

ADDRESSES: Send all comments regarding whether this information collection is necessary for the proper performance of the function of the agency, whether the burden estimates are accurate, and if there are ways to minimize the estimated burden and enhance the quality of the collection, to Walter C. Intlekofer, Chief, Office of Portfolio Management, Office of Financial Assistance, Small Business Administration, 409 3rd Street, SW., 8th floor, Washington, DC 20416.

FOR FURTHER INFORMATION CONTACT: Walter C. Intlekofer, Chief, Office of Portfolio Management, Office of Financial Assistance, 202-205-7543. walter.intlekofer@sba.gov; Curtis B. Rich, Management Analyst, 202-205-7030 curtis.rich@sba.gov.

SUPPLEMENTARY INFORMATION: SBA will collect this information form CDC's and certain 7(a) lenders to determine CDC's eligibility to liquidate and litigate loans and to access the risks and costs of liquidation and litigation actions proposed by CDC's and 7(a) lenders.

Title: “7(a) and 504 Liquidation & Litigation Procedures.”

Description of Respondents: CDC's and certain 7(a) lenders.

Form Number: N/A.

Annual Responses: 1,060.

Annual Burden: 3,890.

Jacqueline White,
Chief, Administrative Information Branch.

[FR Doc. E8-11955 Filed 5-28-08; 8:45 am]

BILLING CODE 8025-01-P